Title 3—

The President

Proclamation 9966 of November 15, 2019

American Education Week, 2019

By the President of the United States of America

A Proclamation

Every child in America deserves equal access to an education that meets their individual needs and prepares them for success. In America, the responsibility for education policy decisions is reserved mainly to the States and to the local officials who know their students best, and we recognize the countless teachers and administrators who contribute every day to innovative solutions at the State and local level. During American Education Week, we celebrate the boundless potential of America's students, honor the teachers, parents, and guardians who help to develop their talents, and commit to expanding educational freedom across the country.

A child begins to learn long before the first day of kindergarten and continues to learn well past high school graduation. Education is not confined to a single method, location, or timeframe, but instead is a process that lasts a lifetime. Our education system should inspire students to become lifelong learners, and it should preserve the rights of parents to play an active role in educating their children, facilitate dynamic teaching styles that fit individual students, and free students to pursue their passions.

Because students have their own unique learning styles, teachers should be free from burdensome regulations and constraints that inhibit their ability to teach students according to their needs. This type of teaching and learning paves the way to rewarding careers and fulfilling lives for young Americans, promoting healthy families, vibrant communities, and continued economic prosperity across our Nation. To create the type of environments where learning can flourish and to seize the opportunities of tomorrow, we must ensure students are able to learn in ways and places that work for them.

My Administration supports educational freedom by opposing one-size-fits-all Federal regulations, restoring decision-making authority to State and local leaders, and empowering families and students. This year, we proposed a transformative new tool for students to access the right education for them: Education Freedom Scholarships. These scholarships will provide up to $5 billion annually in Federal tax credits for voluntary donations to State-based scholarship programs. This program is a bold and necessary step to ensure every family has the freedom to pursue the educational options that are best for them, regardless of zip code. We look forward to the Congress taking action to approve these privately-funded scholarships and to free millions of students of all ages to learn in new and innovative educational settings, without taking a penny from public schools.

In order to successfully prepare students for the jobs and economy of the future, education must be dynamic and forward-thinking in its scope and focus. This September, my Administration announced $123 million in new funding to dozens of school districts, nonprofit organizations, and State educational agencies across the country as part of the Department of Education's Education Innovation and Research (EIR) competitive grant program. These grants will create new, innovative, and personalized ways for students to learn. To help the next generation maintain America's leading role in the global marketplace, more than $78 million will fund projects focused on innovations in science, technology, engineering, and math (STEM) education.

This week, we recognize the power of education and pay tribute to the educators and role models who shape the students of today into the leaders of tomorrow. Their efforts help provide a high-quality education to millions of students, build strong communities, and ensure that America maintains its standing in an increasingly competitive world. Education in America is as important today as it ever has been, and we remain committed to providing teachers and students with the freedom and resources they need to be successful.

NOW, THEREFORE, I, DONALD J. TRUMP, President of the United States of America, by virtue of the authority vested in me by the Constitution and the laws of the United States, do hereby proclaim November 17 through November 23, 2019, as American Education Week. I commend our Nation's schools, their teachers and leaders, and the parents of students across this land. And I call on States and communities to support high-quality education to meet the needs of all students.

IN WITNESS WHEREOF, I have hereunto set my hand this fifteenth day of November, in the year of our Lord two thousand nineteen, and of the Independence of the United States of America the two hundred and forty-fourth.

[FR Doc. 2019-25345

Filed 11-19-19; 11:15 am]

Billing code 3295-F0-P